AGENCY FOR INTERNATIONAL DEVELOPMENT

Federal Register Notice: USAID COVID-19 Performance Monitoring

AGENCY: United States Agency for International Development (USAID).

ACTION: Notice of request for OMB approval.

SUMMARY: In accordance with the Information Collection Review procedures of the Paperwork Reduction Act of 1995 (PRA), the United States Agency for International Development (USAID), is announcing that it has submitted a request to the Office of Management and Budget (OMB) for approval to inform technical approaches to implementing USAID's COVID-19 Implementation Plan. If granted, this approval will be valid for three years from the date of approval.

DATES: If this request for approval is granted, USAID plans to collect performance data beginning on or about May 31, 2023 and expected to end May 31, 2026.

FOR FURTHER INFORMATION CONTACT: Requests for additional information should be directed to Megan McGuire, mmcguire@usaid.gov, +1 (202) 705 6136.

SUPPLEMENTARY INFORMATION: The proposed collection would request reporting from USAID award recipients (Implementing Partners) of performance indicators to be submitted on the frequency designated in their awards. This request is an extension of the six-month emergency OMB approval granted on November 23, 2022 and ending May 31, 2023 (ICR reference #: 202211-0412-001) which allows for mandatory reporting of COVID-19 performance indicators. This activity-level information, in conjunction with contextual data, allows USAID to track progress against the objectives of the U.S. Global COVID-19 Response and Recovery Framework. It will be used for adaptive management, evidence-based strategic decision-making, and accountability. Information will be requested of contracts and grants in the Global VAX surge countries (Angola, Côte d'Ivoire, Eswatini, Ghana, Lesotho, Nigeria, Senegal, South Africa, Tanzania, Uganda, and Zambia) and for contracts and grants receiving more than $500,000 in COVID-19 funds obligated after 9/1/2022 in Ethiopia, Liberia, Madagascar, Malawi, Mozambique, Haiti and the Philippines.

Description of Proposed Use of Information

The performance data would supplement contextual, country-level data currently analyzed by USAID and will provide critical, timely insight into the Agency's COVID-19 response. The collection and reporting of performance indicators by USAID's IPs will facilitate adaptive management, strategic planning, and ensure that COVID-19 response activities are continually aligned with the Agency's primary objectives and the evolving nature of the pandemic. The data will inform the strategic and operational approaches of both the Agency's Washington offices and field-based Missions involved in the COVID-19 response.

Time Burden

USAID estimates an annual time burden of 333 hours per award or 83 hours per response, assuming most awards report on a quarterly basis. USAID expects that a total of 46 awards will be subject to the information collection requirements; for these awards, the time burden is expected to total 15,318 hours per year.

Beth Tritter,
Director, USAID COVID-19 Response Team.

[FR Doc. 2023-05693 Filed 3-20-23; 8:45 am]

BILLING CODE 6116-01-P